DEPARTMENT OF LABOR

Office of the Secretary

Agency Information Collection Activities; Submission for OMB Review; Comment Request; Evaluation of the Trade Adjustment Assistance Community College Career Training (TAACCCT) Grants Program

AGENCY: Office of the Assistant Secretary for Policy, Chief Evaluation Office, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addressee section of this notice.

DATES: Written comments must be submitted to the office listed in the addressee section below on or before September 30, 2014.

ADDRESSES: You may submit comments by either one of the following methods: Email: ChiefEvaluationOffice@dol.gov; Mail or Courier: Erika Liliedahl, Chief Evaluation Office, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Erika Liliedahl by telephone at 202-693-5992 (this is not a toll-free number) or by email at ChiefEvaluationOffice@dol.gov.

SUPPLEMENTARY INFORMATION:

I. Background

The Trade Adjustment Assistance Community College Career Training (TAACCCT) grants program provides community colleges and other eligible institutions of higher education with funds to expand and improve their ability to deliver education and career training programs that can be completed in two years or less and are suited for workers who are eligible for training under the Trade Adjustment Assistance for Workers program. TAACCCT-funded programs assist participants in acquiring the skills, degrees, and credentials needed employment while also meeting the needs of employers for skilled workers. A total of 185 grants have been awarded with 49 in fiscal year 2011 (“Round 1”), 79 in fiscal year 2012 (“Round 2”), and 57 in fiscal year 2013 (“Round 3”).

The purpose of the evaluation, funded by the Chief Evaluation Office, is to evaluate the national TAACCCT grants program, using a mixed-method design including outcome analysis, formal implementation analysis, performance assessment, and evaluability assessment. All Round 2 and 3 grantees and several Round 1 grantees have independent third-party evaluations. The national evaluator is collaborating with grantees and their evaluators and will provide a nationwide assessment of the overall initiative.

This package requests clearance for an online survey of all participating TAACCCT colleges and structured fieldwork in the form of site visits to 10 Round 2 and 10 Round 3 grantees.

The online survey is aimed at developing a comprehensive description of grant activities undertaken by participating TAACCCT colleges, as well as assessing the extent to which grantees have achieved the main goals under the initiative. Unlike the planned site visits to a small select group of TAACCCT grants, the online survey will provide an opportunity to collect responses to survey questions from all colleges that are a part of the 178 Round 1-3 TAACCCT grants.

There are two primary data sources for the structured fieldwork: Semi-structured interviews and focus groups. Interviews will be conducted with college administrators, program coordinators, faculty and instructional staff, industry and community partners, and employers. Field researchers will use a modular interview guide, organized by major topics that can be adapted based on the respondent's knowledge base, to prompt discussions on the approaches used and experiences of the grantees and stakeholders. In-person interviews will provide firsthand about the experiences of those involved in planning, implementing, and participating in the programs and the characteristics that contribute to success or lack of success in addressing and overcoming workforce challenges.

To understand the experiences and perspectives of the participants in the TAACCCT-funded activities, the research team will conduct focus groups of students at each site. Focus group questions will be open-ended and designed to elicit detailed responses. From the focus groups with program participants, researchers will learn about their perceptions regarding the training and service delivery approaches including, recruitment and orientation to the training or career path, supports provided before and after training, educational attainment and employment, and satisfaction with the training program.

II. Desired Focus of Comments

Currently, the Department of Labor is soliciting comments concerning the above data collection for the national evaluation of the TAACCCT grants program. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions

At this time, the Department of Labor is requesting clearance for data collection for the national evaluation of the TAACCCT grants program via survey and fieldwork efforts.

Type of review: New information collection request.

OMB Control Number: 1205-0NEW.

Affected Public: Students participating in and staff and partners associated with implementing TAACCCT grant programs.

Frequency: Once.

Total Responses: 1,440.

Average Time per Response: 76 minutes.

Estimated Total Burden Hours: 1,824 hours.

Total Other Burden Cost: $0.

Comments submitted in response to this request will be summarized and/or included in the request for Office of Management and Budget approval; they will also become a matter of public record.

James H. Moore, Jr.,
Deputy Assistant Secretary for Policy, U.S. Department of Labor.

[FR Doc. 2014-18179 Filed 7-31-14; 8:45 am]

BILLING CODE 4510-23-P